DEPARTMENT OF DEFENSE

Office of the Secretary

Notice of Intent To Grant an Exclusive License; Nguran Corporation

AGENCY: National Security Agency, DoD.

ACTION: Notice.

SUMMARY: The National Security Agency hereby gives notice of its intent to grant Nguran Corporation a revocable, non-assignable, exclusive, license to practice the following Government-Owned invention as described and claimed in United States Patent Application No.14/120,606 entitled: “Satisfiability Filter and Query Tool and Method of Building a Satisfiability Filter and Query Tool,” filed on June 9, 2014 and any related non-provisional patent applications and all Letters Patent issuing thereon, and any continuation, continuation-in-part or division of said non-provisional patent application and any reissue or extension of said Letters Patent.

DATES: Anyone wishing to object to the grant of this license has until February 22, 2016 to file written objections including evidence and argument that establish that the grant of the license would not be consistent with the requirements of 35 U.S.C. 209 and 37 CFR 404.7.

ADDRESSES: Written objections are to be filed with the National Security Agency Technology Transfer Program, 9800 Savage Road, Suite 6843, Fort George G. Meade, MD 20755-6843.

FOR FURTHER INFORMATION CONTACT: Linda L. Burger, Director, Technology Transfer Program, 9800 Savage Road, Suite 6843, Fort George G. Meade, MD 20755-6843, telephone (443) 634-3518.

SUPPLEMENTARY INFORMATION: The prospective exclusive license will comply with the terms and conditions of 35 U.S.C. 209 and 37 CFR 404.7. The patent rights in this invention have been assigned to the United States Government as represented by the National Security Agency.

Dated: February 2, 2016.
Aaron Siegel,
Alternate OSD Federal Register Liaison Officer, Department of Defense.

[FR Doc. 2016-02238 Filed 2-4-16; 8:45 am]

BILLING CODE 5001-06-P